DEPARTMENT OF THE INTERIOR

Bureau of Land Management

[NV-040-5101-ER-F852; NVN-79742; 6-08807]

Notice of Intent to Prepare an Environmental Impact Statement and Initiate the Public Scoping Process for Lincoln County Water District Proposed Water Production Wells, Water Transmission Pipeline, Electric Lines, and Communication Lines in Southeastern Lincoln County; NV

AGENCY: Bureau of Land Management, Interior.

ACTION: Notice of intent to prepare an environmental impact statement and initiate scoping.

SUMMARY: Pursuant to Section 102(2)(C) of the National Environmental Policy Act of 1969, as amended, notice is hereby given that the Bureau of Land Management (BLM), Nevada State Office and Ely Field Office, will be initiating the preparation of an environmental impact statement (EIS) and conducting public scoping meetings to analyze the proposed Lincoln County Land Act (LCLA) Groundwater Development Project, which will include production wells, a water transmission pipeline with lateral pipelines, electric lines, and communication lines. The purpose of the project is to develop and convey water from the Tule Desert area to land sold by the BLM under the LCLA, approximately 2 miles north of Mesquite, Nevada.

DATES: The scoping comment period will commence with the publication of this notice in the Federal Register and will end on May 1, 2006. Comments on the scope of the EIS, including concerns, issues, or proposed alternatives that should be considered in the EIS must be submitted in writing to the address below and will be accepted throughout the scoping period. There will also be public meetings during the 30-day scoping period. The dates, times, and locations of the public scoping meetings will be announced through the local news media.

ADDRESSES: Please mail written comments to the BLM, Ely Field Office, HC 33 Box 33500, Ely Nevada 89301, (fax (775) 289-1910). Comments submitted during this EIS process, including names and street addresses of respondents will be available for public review at the Ely Field Office during regular business hours 7:30 a.m. to 4:30 p.m., Monday through Friday, except holidays. Individual respondents may request confidentiality. If you wish to withhold your name and address from public review or disclosure under the Freedom of Information Act, you must state this prominently at the beginning of your comments. Such requests will be honored to the extent allowed by law. All submissions from organizations or businesses, and from individuals identifying themselves as representatives or officials of organizations or business, will be made available for public inspection in their entirety.

FOR FURTHER INFORMATION CONTACT: Penny Woods, BLM Nevada State Office, (775) 861-6466. You may also contact Ms Woods to have your name added to the EIS mailing list.

SUPPLEMENTARY INFORMATION: The LCLA Groundwater Development Project is being proposed by the Lincoln County Water District (LCWD) and would be located in southeastern Lincoln County. The proposed project would develop and convey groundwater in the Tule Desert and Clover Valley hydrographic basins to land recently sold by the BLM that is approximately 2 miles north of Mesquite, Nevada. This private land comprises the LCLA development area and consists of approximately 13,000 acres. The volume of water to be transported through the proposed facilities would be approximately 23,824 acre-feet per year. The water would be used to support development in the LCLA development area.

The proposed facilities include approximately 8 groundwater production wells (16 inch diameter) located in the Tule Desert and Clover Valley hydrographic basins, a 23-mile long water transmission pipeline (24 inch diameter), and lateral pipelines (12 inch diameter) to connect the transmission pipeline to the productions wells. The proposed width of the right-of-way for the transmission pipeline would be 30 feet with a temporary width of 60 feet during construction. The proposed width of the right-of-way for the lateral pipelines would be 20 feet with a temporary width of 60 feet during construction. The productions well site rights-of-way would be 100 feet × 100 feet with a temporary construction area of 100 feet × 200 feet. Access roads approximately 12 feet in width would be needed from existing roads in the Tule Desert area to each well site.

The proposed production wells would be located in the well field area authorized for the Toquop Energy Project, which is a 1100 MW gas-fired power plant. The proposed transmission pipeline would follow the same alignment as the approved water pipeline for the power plant. From the power plant, the transmission pipeline would proceed to the LCLA development area.

Electric lines, communication lines, and a natural gas pipeline would be located within the proposed transmission pipeline right-of-way. A pipeline bringing reclaimed water from the LCLA development area to the already authorized Toquop Energy Project site would also be in the proposed right-of-way.

The facilities would be located within and/or across the following public lands north of Mesquite, Nevada:

Mount Diablo Meridian

Tps. 6 to 12 S., Rgs. 69 and 71 E., various sections.

A map of the proposed project is available for viewing at the Bureau of Land Management, Ely Field Office, 702 North Industrial Way, Ely NV 89301.

Dated: March 21, 2006.
Amy Lueders,
Associate State Director, Nevada.

[FR Doc. 06-2932 Filed 3-30-06; 8:45 am]

BILLING CODE 4310-HC-P